FEDERAL COMMUNICATIONS COMMISSION

47 CFR Part 73

[DA 04-1539; MB Docket No. 04-213, RM-10991; MB Docket No. 04-214, RM-10992; MB Docket No. 04-215, RM-10993; MB Docket No. 04-216, RM-10994]

Radio Broadcasting Services; Boligee, AL; Jackson, WY; Matagorda, TX; and Vaiden, MS

AGENCY: Federal Communications Commission.

ACTION: Proposed rule.

SUMMARY: This document proposes new allotments in separate communities, Boligee, Alabama, Jackson, Wyoming, Matagorda, Texas, and Vaiden, Mississippi. (1) The Audio Division requests comment on a petition filed by Greene County Broadcasting, proposing the allotment of Channel 297A at Boligee, Alabama, as the community's first local aural transmission service. Channel 297A can be allotted to Boligee in compliance with the Commission's minimum distance separation requirements with a site restriction of 9.5 kilometers (5.9 miles) northwest of the community. The reference coordinates for Channel 297A at Boligee are 32-48-34 NL and 88-06-27 WL. (2) The Audio Division also requests comments on a petition filed by Bulldog Broadcasting proposing the allotment of Channel 249A at Jackson, Wyoming as the community's sixth local aural transmission service. Channel 249A can be allotted to Jackson in compliance with the Commission's minimum distance separation requirements without a site restriction. The reference coordinates for Channel 249A at Jackson are 43-28-42 NL and 110-45-42 WL. (3) The Audio Division requests comments on a petition filed by Joseph L. Sandlin requesting the allotment of Channel 252A at Matagorda, Texas, as the community's first local aural transmission service. Channel 252A may be allotted at Matagorda without a site restriction at coordinates 28-41-25 NL and 95-58-02 WL. Petitioner's site is short-spaced to Channel 252C3, Sheridan, Texas, which was proposed in MM Docket No. 99-331 which is pending on reconsideration. This petition, if granted before MM Docket No. 99-331 is final, will be conditioned on the outcome of that earlier proceeding, and any construction will be at the licensee's risk. (4) The Audio Division also requests comments on a petition filed by Team Broadcasting Co., Inc. proposing the allotment of Channel 271A at Vaiden, Mississippi, as the community's first local aural transmission service. Channel 271A can be allotted at Vaiden at Team's requested site, 4.4 kilometers ( 2.7 miles) southeast of the community at coordinates 33-18-03 NL and 89-42-54 WL.

DATES: Comments must be filed on or before August 2, 2004, and reply comments on or before August 17, 2004.

ADDRESSES: Federal Communications Commission, 445 Twelfth Street, SW., Washington, DC 20554. In addition to filing comments with the FCC, interested parties should serve the petitioner, his counsel, or consultant, as follows: (1) Greene County Broadcasting, c/o John C. Trent, Esq., Putbrese, Hunsaker, & Trent, P.C., 100 Carpenter Drive, Suite 100, Sterling, Virginia, 20167-0217; (2) Bulldog Broadcasting, c/o Scott C. Cinnamon, PLLC, 1090 Vermont Ave., NW., Suite 800 #144, Washington, DC 20005; (3) Joseph L. Sandlin, P.O. Box 2056, Bay City, Texas, 77404-2056; (4) Team Broadcasting Co., Inc., c/o Mark N. Lipp, Esq., Vinson & Elkins, L.L.P., The Willard Office Building, 1455 Pennsylvania Avenue, NW., Washington, DC 20004-1008.

FOR FURTHER INFORMATION CONTACT: Victoria M. McCauley, Media Bureau, (202) 418-2180.

SUPPLEMENTARY INFORMATION: This is a synopsis of the Commission's Notice of Proposed Rule Making, MB Docket Nos. 04-213, 04-214, 04-215, 04-216, adopted on August 2, 2004 and released on August 17, 2004. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact. For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Alabama, is amended by adding Boligee, Channel 297A.

3. Section 73.202(b), the Table of FM Allotments under Mississippi is amended by adding Vaiden, Channel 271A.

4. Section 73.202(b), the Table of FM Allotments under Texas, is amended by adding Matagorda, Channel 252A.

5. Section 73.202(b), the Table of FM Allotments under Wyoming is amended by adding Channel 249A at Jackson.

Federal Communications Commission.
John A. Karousos,
Assistant Chief, Audio Division, Media Bureau.

[FR Doc. 04-14488 Filed 6-24-04; 8:45 am]

BILLING CODE 6712-01-P